DEPARTMENT OF HEALTH AND HUMAN SERVICES

National Institutes of Health

Center for Scientific Review; Amended Notice of Meeting

Notice is hereby given of a change in the meeting of the Center for Scientific Review Special Emphasis Panel, ZRG1 DDR-Y 07 October 11, 2019, Cambria Hotel Rockville, 1 Helen Heneghan Way, Rockville, MD 20850 which was published in the Federal Register on September 10, 2019, 84-FR PG 47528.

The meeting notice is amended to change the meeting time from 8:00 a.m.-10:00 a.m. to 11:00 a.m.-1:00 p.m. The location remains the same. The meeting is closed to the public.

Dated: September 12, 2019.
Melanie J. Pantoja,
Program Analyst, Office of Federal Advisory Committee Policy.

[FR Doc. 2019-20119 Filed 9-17-19; 8:45 am]

BILLING CODE 4140-01-P